Title 3—

The President

Proclamation 7820 of September 24, 2004

Family Day, 2004

By the President of the United States of America

A Proclamation

During this time of great change in our Nation, we remain dedicated to the fundamental American values of courage and compassion, reverence and integrity, and respect for others. On Family Day, we affirm our commitment to strengthening America's families and supporting them as they work to raise healthy and responsible children.

Strong families help young people take responsibility, understand the consequences of their actions, and recognize that the decisions they make today could affect the rest of their lives. By spending time with their children, parents prepare them to realize a bright future.

It should always be a goal of government to encourage marriage and strengthen families. My 2005 budget proposal includes more than $290 million in funding for programs that support healthy marriages, research and demonstration projects on family formation, and initiatives to promote responsible fatherhood.

We have made significant progress over the past decade in helping our young people make the right choices. Smoking and illicit drug use have declined among youth, teen birth rates have fallen to the lowest levels ever recorded, and violent crime among teenagers has decreased dramatically. My Administration is also supporting families by encouraging character education in schools to help children develop a sense of responsibility to their communities. We are advancing abstinence-only education programs to help reduce the number of teen pregnancies and teenagers contracting sexually transmitted diseases, and we are promoting school drug testing to identify kids who need help. When parents, schools, and government work together, we can counter the negative influences in today's culture and send a positive message to our youth.

Families instill the essential values we live by. By supporting them, we make America a better and more hopeful place.

NOW, THEREFORE, I, GEORGE W. BUSH, President of the United States of America, by virtue of the authority vested in me by the Constitution and laws of the United States, do hereby proclaim September 27, 2004, as Family Day. I call on the people of the United States to observe this day by engaging in activities that honor the relationship between parents and children and help keep our young people healthy and safe.

IN WITNESS WHEREOF, I have hereunto set my hand this twenty-fourth day of September, in the year of our Lord two thousand four, and of the Independence of the United States of America the two hundred and twenty-ninth.

B

[FR Doc. 04-21890

Filed 9-27-04; 9:04 am]

Billing code 3195-01-P